DEPARTMENT OF JUSTICE

Drug Enforcement Administration

Manufacturer of Controlled Substances; Notice of Application; Cayman Chemical Company

Pursuant to 21 CFR 1301.33(a), this is notice that on December 6, 2013, Cayman Chemical Company, 1180 East Ellsworth Road, Ann Arbor, Michigan 48108, made application by correspondence to the Drug Enforcement Administration (DEA) to be registered as a bulk manufacturer of the following basic classes of controlled substances:

Drug | Schedule
2-(4-bromo-2,5-dimethoxyphenyl)-N-(2-methoxybenzyl) (25B-NBOMe) (7536) | I
2-(4-chloro-2,5-dimethoxyphenyl)-N-(2-methoxybenzyl) (25C-NBOMe) (7537) | I
2-(4-iodo-2,5-dimethoxyphenyl)-N-(2-methoxybenzyl) (25I-NBOMe) (7538) | I

The company plans to manufacture the listed controlled substances, and distribute those substances to its research and forensics customers for drug testing and analysis.

Any other such applicant, and any person who is presently registered with the DEA to manufacture such substances, may file comments or objections to the issuance of the proposed registration pursuant to 21 CFR 1301.33(a).

Any such written comments or objections should be addressed, in quintuplicate, to the Drug Enforcement Administration, Office of Diversion Control, Federal Register Representative (ODW), 8701 Morrissette Drive, Springfield, Virginia 22152; and must be filed no later than May 12, 2014.

Dated: Signed February 19, 2014.
Joseph T. Rannazzisi,
Deputy Assistant Administrator, Office of Diversion Control, Drug Enforcement Administration.

[FR Doc. 2014-05493 Filed 3-12-14; 8:45 am]

BILLING CODE 4410-09-P